ENVIRONMENTAL PROTECTION AGENCY

[FRL-9323-1]

Science Advisory Board Staff Office; Notification of a Public Teleconference and Meeting of the SAB Radiation Advisory Committee for the Advisory Review of EPA's Draft Technical Report Pertaining to Uranium and Thorium In-Situ Leach Recovery and Post-Closure Stability Monitoring

AGENCY: Environmental Protection Agency (EPA).

ACTION: Notice.

SUMMARY: The EPA Science Advisory Board (SAB) Staff Office announces a public meeting and teleconference of the Radiation Advisory Committee (RAC) augmented for an advisory review of EPA's draft report “Considerations Related to Post-Closure Monitoring of Uranium In-Situ Leach/In-Situ Recovery (ISL/ISR) Sites.”

DATES: The public teleconference will be conducted on July 12, 2011 from 1 p.m. to 4 p.m. (Eastern Daylight time). The two-day meeting will begin at 9 a.m. on Monday, July 18, 2011 and adjourn no later than 5 p.m. on Tuesday, July 19, 2011.

ADDRESSES: The public teleconference will be conducted by telephone only. The two-day meeting will be held at the Saint Regis Hotel, 923 16th and K Streets, NW., Washington, DC 20006.

Purpose of the Teleconference and Meeting: The purpose of the July 12, 2011 teleconference is to discuss and seek clarification of EPA's charge to the RAC, discuss the draft agenda for the face-to-face meeting of July 18 and 19, 2011, as well as to discuss committee assignments. The purpose of the July 18 and 19, 2011 meeting is to receive presentations from the Agency staff, discuss responses to the charge questions, receive public comment and begin to draft the response.

Availability of Meeting Materials: A roster and biosketches of the augmented RAC, the meeting agenda, the charge to the SAB for the advisory, and other supplemental materials will be posted on the SAB Web site at http://www.epa.gov/sab prior to the teleconference and meeting.

FOR FURTHER INFORMATION CONTACT: Any member of the public wishing further information regarding this Notice may contact Dr. K. Jack Kooyoomjian, Designated Federal Officer (DFO), SAB Staff Office (1400R), 1200 Pennsylvania Avenue, NW., Washington, DC 20460; or by telephone/voice mail at (202)-564-2064, or via email at kooyoomjian.jack@epa.gov. The review materials may be found at http://yosemite.epa.gov/sab/sabproduct.nsf/c91996cd39a82f648525742400690127/0314cef928df63cc8525775200482fa3!OpenDocument. General information concerning the EPA Science Advisory Board can be found at the EPA SAB Web site at http://www.epa.gov/sab.

Technical Contact: Technical background information pertaining to Uranium In-Situ Leach Recovery—Post-Closure Stability Monitoring can be found at http://www.epa.gov/radiation/tenorm/pubs.html. Information pertaining to EPA's regulatory standards in 40 CFR part 192—Health and Environmental Protection Standards for Uranium and Thorium Mill Tailings can be found at http://yosemite.epa.gov/opei/rulegate.nsf/byRIN/2060-AP43?opendocument. For questions concerning the technical aspects of this topic, please contact Dr. Mary E. Clark of the U.S. EPA, ORIA by telephone at (202) 343-9348, fax at (202) 343-2395, or e-mail at clark.marye@epa.gov.

SUPPLEMENTARY INFORMATION: Background: The SAB was established pursuant to the Environmental Research, Development, and Demonstration Authorization Act (ERDAA), codified at 42 U.S.C. 4365 to provide independent scientific and technical peer review advice, consultation and recommendations to the EPA Administrator on the technical basis for Agency actions, positions and regulations. As a Federal Advisory Committee, the SAB conducts business in accordance with the Federal Advisory Committee Act (FACA) (5 U.S.C. App. 2) and related regulations. Pursuant to FACA and EPA policy, notice is hereby given that the SAB will hold a public teleconference to initiate an advisory, followed by a two-day meeting. The SAB will comply with the provisions of FACA and all appropriate EPA and SAB Staff Office procedural policies.

EPA is conducting a review of its regulatory standards in 40 CFR part 192—Health and Environmental Protection Standards for Uranium and Thorium Mill Tailings. In accordance with the Uranium Mill Tailings Radiation and Control Act (UMTRCA) section 206, EPA is authorized to develop standards for the protection of public health, safety, and the environment from radiological and non-radiological hazards associated with residual radioactive materials. The Agency is currently undertaking a review to determine if the existing standards, last revised by EPA in 1995, should be updated. The expectation is that In-Situ Leach Recovery (ISL/ISR) operations will be the most common type of new uranium extraction facility in the U.S. These facilities can affect groundwater. Accordingly, EPA is seeking scientific advice and relevant technical criteria to establish standards and procedures, including the relevant period for monitoring ISL/ISR facilities once uranium extraction operations are completed, to provide reasonable assurances of aquifer stability and groundwater protection.

The EPA has requested the SAB review a draft technical document on ISL/ISR post closure stability monitoring to evaluate what criteria should be considered to establish a specific period of monitoring for ISL/ISR facilities, once uranium extraction operations are completed. Among the issues to be considered are whether a time frame can be established; whether specific site characteristics, features or benchmarks can be used to aid in establishing a post-closure monitoring time period; and if other technical approaches should be considered by EPA to provide reasonable assurances of aquifer stability and groundwater protection.

The SAB Staff Office requested nominations of experts in the Federal Register (Vol. 75, No. 226, Weds, November 24, 2010, pages 71702-71703) and has formed an expert panel by augmenting the RAC with additional experts to review the EPA's draft technical report, which will be used as a basis to evaluate the technical and scientific issues pertaining to standards in 40 CFR Part 192—Health and Environmental Protection Standards for Uranium and Thorium Mill Tailings.

Availability of Meeting Materials: The Agenda and other materials in support of the teleconference and two-day meeting will be placed on SAB Web site in advance of the teleconference and meeting.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide comment should contact the Designated Federal Officer directly.

Oral Statements: In general, individuals or groups requesting an oral presentation at a teleconference will be limited to three minutes. Those interested in being placed on the public speakers list for the July 6, 2011 teleconference should contact Dr. Kooyoomjian at the contact information provided above no later than noon on July 5, 2011. Those interested in being placed on the public speakers list for the July 18 and 19, 2011 meeting should contact Dr. Kooyoomjian by noon on July 15, 2011. Written Statements: Written statements should be supplied to the DFO via e-mail at the contact information noted by noon July 5, 2011 for the teleconference, and by noon on July 14, 2011 so that the information may be made available to the Panel members on the augmented RAC for their consideration. Written statements should be supplied in one of the following electronic formats: Adobe Acrobat PDF, MS Word, MS PowerPoint, or Rich Text files in IBM-PC/Windows98/2000/XP format. It is the SAB Staff office general policy to post written comments on the Web page for the advisory meeting or teleconference. Submitters are requested to provide an unsigned version of each document, because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Kooyoomjian at (202) 564-2064 or e-mail at kooyoomjian.jack@epa.gov. To request accommodation of a disability, please contact Dr. Kooyoomjian preferably at least ten days prior to the teleconference or meeting to give as much time as possible to process your request.

Dated: June 16, 2011.
Anthony F. Maciorowski,
Deputy Director, EPA Science Advisory Board Staff Office.

[FR Doc. 2011-15761 Filed 6-22-11; 8:45 am]

BILLING CODE 6560-50-P